DEPARTMENT OF COMMERCE

Foreign-Trade Zones Board

[B-11-2018]

Foreign-Trade Zone (FTZ) 23—Buffalo, New York; Notification of Proposed Production Activity; Panasonic Eco Solutions Solar New York America Subzone 23E (Solar Panels/Modules); Buffalo, New York

Panasonic Eco Solutions Solar New York America (PESSNY) submitted a notification of proposed production activity to the FTZ Board for its facility in Buffalo, New York. The notification conforming to the requirements of the regulations of the FTZ Board (15 CFR 400.22) was received on February 5, 2018.

The PESSNY facility is located within Subzone 23E. The facility is used for the production of crystalline silicon photovoltaic (CSPV) solar panels/modules. Pursuant to 15 CFR 400.14(b), FTZ activity would be limited to the specific foreign-status materials and components and specific finished products described in the submitted notification (as described below) and subsequently authorized by the FTZ Board.

Production under FTZ procedures could exempt PESSNY from customs duty payments on the foreign-status components used in export production. On its domestic sales, for the foreign-status materials/components noted below, PESSNY would be able to choose the duty rates during customs entry procedures that apply to CSPV solar panels/modules (duty free). PESSNY would be able to avoid duty on foreign-status components which become scrap/waste. Customs duties also could possibly be deferred or reduced on foreign-status production equipment.

The components and materials sourced from abroad include: Silicone sealant/cement; ethylene vinyl acetate film/resin sheets; polyolefin base plastic film/resin sheets; plastic polymer rolls of film; polypropylene corner protectors; low iron glass; copper connection tabs; nickel standard conductive film; tin/silver/copper alloy soldering wire; plastic junction boxes; silver-plated copper ribbon; resin-laminated, silver-plated copper ribbon/tabs; polyester tape; silver paste; and silicon wafers. (duty rates range from duty free to 5.8%).

Public comment is invited from interested parties. Submissions shall be addressed to the Board's Executive Secretary at the address below. The closing period for their receipt is March 26, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Diane Finver at Diane.Finver@trade.gov or (202) 482-1367.

Dated: February 8, 2018.
Andrew McGilvray,
Executive Secretary.

[FR Doc. 2018-02909 Filed 2-12-18; 8:45 am]

BILLING CODE 3510-DS-P